DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than September 15, 2015.

ADDRESSES: Submit your comments to paperwork@hrsa.gov or mail the HRSA Information Collection Clearance Officer, Room 10C-03, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Bureau of Health Workforce (BHW) Uniform Data System (UDS).

OMB No. 0915-XXXX—NEW.

Abstract: The UDS is the Bureau of Primary Health Care's (BPHC's) annual reporting system for HRSA-supported health centers. The UDS is a program performance reporting system that tracks a variety of information, including patient demographics, services provided, staffing, clinical indicators, utilization rates, costs, and revenues. BHW proposes that HRSA Nurse Managed Health Clinic (NMHC) grantees and Interprofessional Collaborative Practice (IPCP) program cooperative agreement awardees also submit data into the UDS.

This request is to expand the UDS data reporting resource to the BHW NMHC grantees and IPCP program cooperative agreement awardees. Calendar year data would be submitted annually to enable BHW to track clinical practice and patient outcome data. The data collection is limited to NMHC and IPCP grantees and cooperative agreement awardees because of the similarities these care models share with health centers; therefore, the use of the pre-existing infrastructure will enable HRSA to populate the data set with additional sources, making the resource more robust.

Need and Proposed Use of the Information: HRSA collects UDS data which are used to ensure compliance with legislative and regulatory requirements, improve grantee and cooperative agreement awardee performance and operations, and report overall program accomplishments. BHW proposes to collect core data elements that include patient demographics, healthcare services, clinical indicators and outcomes, provider utilization, and costs. BHW will use the patient and provider-level data to determine the impact of healthcare services on patient outcomes. The data will also enable BHW to establish or expand targeted programs and identify effective services and interventions to improve the health of underserved communities and vulnerable populations. In addition, the UDS data are useful to BHW grantees and cooperative agreement awardees for performance and operations improvement, patient forecasts, identification of trends/patterns, implication of access barriers, and cost analysis to support long-term sustainability.

Likely Respondents: The respondents will be HRSA BHW Nurse Managed Health Clinic (NMHC) grantees and Interprofessional Collaborative Practice (IPCP) program cooperative agreement awardees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total estimated annualized hours: Form name | Number of respondents | Number of responses per respondent | Total responses | Average burden per response (in hours) | Total burden hours
Universal Report | 81 | 1 | 81 | 170 | 13,770
Grant Report | 81 | 1 | 81 | 22 | 1,782
Total | 162 |  |  |  | 15,552

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-17552 Filed 7-16-15; 8:45 am]

BILLING CODE 4165-15-P